NUCLEAR REGULATORY COMMISSION

[NRC-2014-0277]

Guidance for ITAAC Closure

AGENCY: Nuclear Regulatory Commission.

ACTION: Regulatory guide; issuance.

SUMMARY: The U.S. Nuclear Regulatory Commission (NRC) is issuing Revision 2 to Regulatory Guide (RG) 1.215, “Guidance for ITAAC Closure Under 10 CFR part 52.” This RG describes a method that the staff of the NRC considers acceptable for use in satisfying the requirements for documenting the completion of inspections, tests, analyses, and acceptance criteria (ITAAC)

ADDRESSES: Please refer to Docket ID NRC-2014-0277 when contacting the NRC about the availability of information regarding this document. You may access information related to this document, which the NRC possesses and is publicly available, using the following methods:

• Federal Rulemaking Web site: Go to http://www.regulations.gov and search for Docket ID NRC-2014-0277. Address questions about NRC dockets to Carol Gallagher; telephone: 301-415-3463; email: Carol.Gallagher@nrc.gov.

• NRC's Agencywide Documents Access and Management System (ADAMS): You may access publicly available documents online in the ADAMS Public Documents Collections at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of Regulatory Guide 1.215, is available in ADAMS under Accession No. ML15105A447. The regulatory analysis may be found in ADAMS under Accession No. ML14258B184.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: James Gaslevic, Office of New Reactors, telephone: 301-415-2276, email: James.Gaslevic@nrc.gov, or Stephen Burton, Office of Nuclear Regulatory Research, telephone: 301-415-7000, email: Stephen.Burton@nrc.gov. Both are staff of the U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the staff uses in evaluating specific issues or postulated events, and data that the staff needs in its review of applications for permits and licenses.

Revision 2 of RG 1.215 was issued with a temporary identification as Draft Regulatory Guide, DG-1316. This revision (Revision 2) of RG 1.215 approves for use Nuclear Energy Institute (NEI) 08-01, “Industry Guideline for the ITAAC Closure Process under 10 CFR part 52,” Revision 5—Corrected (Ref. 2), subject to certain exceptions and additional guidance described in this regulatory guide under Section C, Staff Regulatory Guidance. The NEI 08-01, Revision 5—Corrected, was updated to include additional guidance related to ITAAC maintenance, lessons learned from simulated ITAAC closure implementation, changes to the information and formatting guidance for uncompleted ITAAC notifications, and other enhancements.

II. Additional Information

Draft Guide 1316 was published in the Federal Register on January 5, 2015 (80 FR 265) for a 60-day public comment period. The public comment period closed on March 6, 2015. Public comments on DG-1316 and the staff responses to the public comments are available under ADAMS Accession Number ML15105A446.

III. Congressional Review Act

This regulatory guide is a rule as defined in the Congressional Review Act (5 U.S.C. 801-808). However, the Office of Management and Budget has not found it to be a major rule as defined in the Congressional Review Act.

IV. Backfitting and Issue Finality

This regulatory guide approves updated industry guidance for ITAAC closure, including the different kinds of ITAAC notifications required by 10 CFR 52.99. Issuance of this regulatory guide is not inconsistent with the issue finality provisions in 10 CFR part 52. As discussed in the “Implementation” section of this regulatory guide, the NRC has no current intention to impose this regulatory guide on current holders of combined licenses. In addition, the matters in this regulatory guide are not within the matters subject to issue finality protection under 10 CFR 52.83 or 10 CFR 52.98. Therefore, any imposition of this regulatory guide on current holders of combined licenses, or current and future applicants for combined licenses, would not be inconsistent with any issue finality protection under 10 CFR 52.83 or 10 CFR 52.98.

Dated at Rockville, Maryland, this 16th day of July, 2015.
For the Nuclear Regulatory Commission.
Thomas H. Boyce,
Chief, Regulatory Guidance and Generic Issues Branch, Division of Engineering, Office of Nuclear Regulatory Research.

[FR Doc. 2015-18114 Filed 7-23-15; 8:45 am]

BILLING CODE 7590-01-P